ENVIRONMENTAL PROTECTION AGENCY

[EPA-HQ-OECA-2012-0502; FRL—9943-84-OEI]

Information Collection Request Submitted to OMB for Review and Approval; Comment Request; NSPS for Hospital/Medical/Infectious Waste Incinerators (Renewal)

AGENCY: Environmental Protection Agency (EPA).

ACTION: Notice.

SUMMARY: The Environmental Protection Agency has submitted an information collection request (ICR), “NSPS for Hospital/Medical/Infectious Waste Incinerators (40 CFR part 60, subpart Ec) (Renewal)” (EPA ICR No. 1730.10, OMB Control No. 2060-0363) to the Office of Management and Budget (OMB) for review and approval in accordance with the Paperwork Reduction Act (44 U.S.C. 3501 et seq.). This is a proposed extension of the ICR, which is currently approved through March 31, 2016. Public comments were previously requested via the Federal Register (80 FR 32116) on June 5, 2015, during a 60-day comment period. This notice allows for an additional 30 days for public comments. A fuller description of the ICR is given below, including its estimated burden and cost to the public. An Agency may not conduct or sponsor and a person is not required to respond to a collection of information unless it displays a currently valid OMB control number.

DATES: Additional comments may be submitted on or before April 18, 2016.

ADDRESSES: Submit your comments, referencing Docket ID Number EPA-HQ-OECA-2012-0502, to (1) EPA online using www.regulations.gov (our preferred method), by email to docket.oeca@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Abstract: The affected entities are subject to the General Provisions of the NSPS at 40 CFR part 60, subpart A and any changes, or additions to the Provisions specified at 40 CFR part 60, subpart Ec. Owners or operators of the affected facilities must make an initial notification, performance tests, periodic reports, and maintain records of the occurrence and duration of any startup, shutdown, or malfunction in the operation of an affected facility, or any period during which the monitoring system is inoperative. Reports are also required semiannually.

Form Numbers: None.

Respondents/affected entities: Hospital/medical/infectious waste incinerators.

Respondent's obligation to respond: Mandatory (40 CFR part 60, subpart Ec).

Estimated number of respondents: 8 (total).

Frequency of response: Initially, occasionally, semiannually and annually.

Total estimated burden: 5,670 hours (per year). Burden is defined at 5 CFR 1320.3(b).

Total estimated cost: $972,000 (per year), includes $402,000 annualized capital or operation & maintenance costs.

Changes in the estimates: There is an overall increase in burden in this ICR from the most recently approved ICR. This is due to an increase in the estimated number of sources subject to the regulation, and is not caused by program changes. We estimate the industry will continue to grow at the rate of one new source per year. This results in increases in the respondent labor hours, number of responses, and capital/O&M costs.

Courtney Kerwin,
Acting Director, Collection Strategies Division.

[FR Doc. 2016-06046 Filed 3-16-16; 8:45 am]

BILLING CODE 6560-50-P